DEPARTMENT OF AGRICULTURE

Animal and Plant Health Inspection Service

[Docket No. APHIS-2009-0082]

Notice of Determination of Pest-Free Areas in the Republic of Chile

AGENCY: Animal and Plant Health Inspection Service, USDA.

ACTION: Notice.

SUMMARY: We are advising the public that we are recognizing an additional area of the Republic of Chile as a pest-free area for Ceratitis capitata, Mediterranean fruit fly (Medfly). Based on our site visit to the area and our review of the documentation submitted by the Republic of Chile, which we made available to the public review and comment through a previous notice, the Administrator has determined that the area meets the criteria in our regulations for recognition as a pest-free area for Medfly.

EFFECTIVE DATE: June 10, 2010.

FOR FURTHER INFORMATION CONTACT: Mr. Phillip B. Grove, Regulatory Coordination Specialist, Regulatory Coordination and Compliance, APHIS, 4700 River Road Unit 156, Riverdale, MD 20737; (301) 734-6280.

SUPPLEMENTARY INFORMATION: Under the regulations in “Subpart-Fruits and Vegetables” (7 CFR 319.56 through 319.56-50, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. One of the designated phytosanitary measures is that the fruits or vegetables are imported from a pest-free area in the country of origin that meets the requirements of § 319.56-5 for freedom from that pest and are accompanied by a phytosanitary certificate stating that the fruits or vegetables originated in a pest-free area in the country of origin.

Under the regulations in § 319.56-5, APHIS requires that determinations of pest-free areas be made in accordance with the criteria for establishing freedom from pests found in International Standard for Phytosanitary Measures (ISPM) No. 4, “Requirements for the establishment of pest-free areas.” The international standard was established by the International Plant Protection Convention of the United Nations’ Food and Agriculture Organization and is incorporated by reference in our regulations in 7 CFR 300.5. In addition, APHIS must also approve the survey protocol used to determine and maintain pest-free status, as well as protocols for actions to be performed upon detection of a pest. Pest-free areas are subject to audit by APHIS to verify their status.

In accordance with that process, we published a notice¹ in the Federal Register on February 1, 2010 (75 FR 5034-5035, Docket No. APHIS-2009-0082), in which we announced the availability, for review and comment, of a commodity import evaluation document titled “Recognition of an Additional Region as Medfly Pest-Free Area (PFA) for the Republic of Chile.” In this document, we examined the survey protocols and other information provided by the Republic of Chile relative to its system to establish freedom, phytosanitary measures to maintain freedom, and system for the verification of the maintenance of freedom from Mediterranean fruit fly (Medfly, Ceratitis capitata). Prior to this notice, APHIS recognized the Republic of Chile, except for the Arica Province, as free of Medfly. Therefore, recognizing the Arica Province as free of Medfly would result in the entire Republic of Chile as being recognized as free of that pest.

¹ To view the notice, the commodity import evaluation document, and the comments we received, go to (http://www.regulations.gov/fdmspublic/component/main?main=DocketDetail&d=APHIS-2009-0082).

We solicited comments on the notice for 60 days ending on April 2, 2010. We received four comments by that date, from packers, importers, and a fresh produce company, that all supported the recognition of the Arica Province of the Republic of Chile as a pest-free area.

Therefore, in accordance with § 319.56-5(c), we are announcing the Administrator’s determination that the Arica Province meets the criteria of § 319-56(a) and (b) with respect to freedom from Medfly. Accordingly, we are recognizing the Republic of Chile as a pest-free area for Medfly and have added it to the list of pest-free areas, which may be viewed at (http://www.aphis.usda.gov/import_export/plants/manuals/ports/downloads/DesignatedPestFreeAreas.pdf). The list of pest-free areas may also be obtained from the person listed under FOR FURTHER INFORMATION CONTACT.

Done in Washington, DC, this 3rd day of June 2010.

Kevin Shea
Acting Administrator, Animal and Plant Health Inspection Service.

[FR Doc. 2010-13933 Filed 6-9-10; 8:45 am]

BILLING CODE 3410-34-S